DEPARTMENT OF ENERGY

Federal Energy Regulatory Commission

Combined Notice of Filings #1

Take notice that the Commission received the following exempt wholesale generator filings:

Docket Numbers: EG19-17-000.

Applicants: Bridgewater Power Company, L.P.

Description: Notice of Self-Certification of Exempt Wholesale Generator Status of Bridgewater Power Company, L.P.

Filed Date: 11/8/18.

Accession Number: 20181108-5164.

Comments Due: 5 p.m. ET 11/29/18.

Docket Numbers: EG19-18-000.

Applicants: Peony Solar LLC.

Description: Notice of Self-Certification of Exempt Wholesale Generator Status of Peony Solar LLC.

Filed Date: 11/9/18.

Accession Number: 20181109-5026.

Comments Due: 5 p.m. ET 11/30/18.

Take notice that the Commission received the following electric rate filings:

Docket Numbers: ER18-2231-001.

Applicants: Duke Energy Carolinas, LLC.

Description: Compliance filing: DEC Revised Depreciation Rates (Compliance Filing) to be effective 8/1/2018.

Filed Date: 11/9/18.

Accession Number: 20181109-5029.

Comments Due: 5 p.m. ET 11/30/18.

Docket Numbers: ER19-154-001.

Applicants: Southern California Edison Company.

Description: Tariff Amendment: Amendment to Harry Allen Interconnection Agreement to be effective 10/23/2018.

Filed Date: 11/8/18.

Accession Number: 20181108-5147.

Comments Due: 5 p.m. ET 11/29/18.

Docket Numbers: ER19-298-001.

Applicants: PJM Interconnection, L.L.C.

Description: Tariff Amendment: Errata—Amendment to ISAs, SA Nos. 4682 & First Revised 4332; Queue No. AA1-139 to be effective 11/17/2017.

Filed Date: 11/9/18.

Accession Number: 20181109-5143.

Comments Due: 5 p.m. ET 11/30/18.

Docket Numbers: ER19-313-000.

Applicants: Midcontinent Independent System Operator, Inc. ALLETE, Inc.

Description: § 205(d) Rate Filing: 2018-11-08 SA 3207 MP-GRE ICA (Langola) to be effective 11/9/2018.

Filed Date: 11/8/18.

Accession Number: 20181108-5165.

Comments Due: 5 p.m. ET 11/29/18.

Docket Numbers: ER19-314-000.

Applicants: Bridgewater Power Company, L.P.

Description: Baseline eTariff Filing: Bridgewater Power Company, L.P. Market Based Rates Tariff to be effective 1/8/2019.

Filed Date: 11/8/18.

Accession Number: 20181108-5166.

Comments Due: 5 p.m. ET 11/29/18.

Docket Numbers: ER19-315-000.

Applicants: New York Independent System Operator, Inc.

Description: § 205(d) Rate Filing: Unsecured credit scoring model revisions to be effective 1/9/2019.

Filed Date: 11/9/18.

Accession Number: 20181109-5027.

Comments Due: 5 p.m. ET 11/30/18.

Docket Numbers: ER19-316-000.

Applicants: American Transmission Systems, Incorporated, PJM Interconnection, L.L.C.

Description: § 205(d) Rate Filing: ATSI submits IA SA No. 5132 to be effective 1/9/2019.

Filed Date: 11/9/18.

Accession Number: 20181109-5040.

Comments Due: 5 p.m. ET 11/30/18.

Docket Numbers: ER19-317-000.

Applicants: El Paso Electric Company.

Description: § 205(d) Rate Filing: Rate Schedule No. 115 EPE E & P Agreement with EDF Renewables Development, Inc. to be effective 11/10/2018.

Filed Date: 11/9/18.

Accession Number: 20181109-5041.

Comments Due: 5 p.m. ET 11/30/18.

Docket Numbers: ER19-319-000.

Applicants: Midcontinent Independent System Operator, Inc., ALLETE, Inc.

Description: § 205(d) Rate Filing: 2018-11-10_SA 3209 MP-GRE ICA (Brainerd) to be effective 11/10/2018.

Filed Date: 11/9/18.

Accession Number: 20181109-5069.

Comments Due: 5 p.m. ET 11/30/18.

Docket Numbers: ER19-320-000.

Applicants: Midcontinent Independent System Operator, Inc., ALLETE, Inc.

Description: § 205(d) Rate Filing: 2018-11-09_SA 3208 MP-GRE T-L IA (Taft) to be effective 11/10/2018.

Filed Date: 11/9/18.

Accession Number: 20181109-5074.

Comments Due: 5 p.m. ET 11/30/18.

Docket Numbers: ER19-321-000.

Applicants: Duke Energy Progress, LLC.

Description: Tariff Cancellation: DEP-FBEMC (Rate Schedule No. 195) Cancellation Filing to be effective 12/31/2017.

Filed Date: 11/9/18.

Accession Number: 20181109-5083.

Comments Due: 5 p.m. ET 11/30/18.

Docket Numbers: ER19-322-000.

Applicants: Southern California Edison Company.

Description: § 205(d) Rate Filing: First Amended Interconnection Agreement for the Bob Switch to be effective 11/10/2018.

Filed Date: 11/9/18.

Accession Number: 20181109-5095.

Comments Due: 5 p.m. ET 11/30/18.

Docket Numbers: ER19-323-000.

Applicants: PJM Interconnection, L.L.C.

Description: § 205(d) Rate Filing: Revisions to the OATT and OA re Transmission Constraint Penalty Factors to be effective 2/1/2019.

Filed Date: 11/9/18.

Accession Number: 20181109-5099.

Comments Due: 5 p.m. ET 11/30/18.

Docket Numbers: ER19-324-000.

Applicants: Central Maine Power Company.

Description: § 205(d) Rate Filing: First Amendment to Bilateral, Cost-Based Trans. Service Agreements (Eversource) to be effective 1/9/2019.

Filed Date: 11/9/18.

Accession Number: 20181109-5137.

Comments Due: 5 p.m. ET 11/30/18.

Docket Numbers: ER19-325-000.

Applicants: Central Maine Power Company.

Description: § 205(d) Rate Filing: First Amendment to Bilateral, Cost-Based Trans. Service Agreements (NG) to be effective 1/9/2019.

Filed Date: 11/9/18.

Accession Number: 20181109-5142.

Comments Due: 5 p.m. ET 11/30/18.

Docket Numbers: ER19-326-000.

Applicants: Central Maine Power Company.

Description: § 205(d) Rate Filing: First Amendment to Bilateral, Cost-Based Trans. Service Agreements (Unitil) to be effective 1/9/2019.

Filed Date: 11/9/18.

Accession Number: 20181109-5144.

Comments Due: 5 p.m. ET 11/30/18.

Docket Numbers: ER19-327-000.

Applicants: Pacific Gas and Electric Company.

Description: § 205(d) Rate Filing: E&P Agreement for Gonzaga Ridge Wind Farm to be effective 11/10/2018.

Filed Date: 11/9/18.

Accession Number: 20181109-5153.

Comments Due: 5 p.m. ET 11/30/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 9, 2018.
Nathaniel J. Davis, Sr.,
Deputy Secretary.

[FR Doc. 2018-25073 Filed 11-15-18; 8:45 am]

BILLING CODE 6717-01-P